DEPARTMENT OF HEALTH AND HUMAN SERVICES

National Institutes of Health

National Institute of Neurological Disorders and Stroke; Amended Notice of Meeting

Notice is hereby given of a change in the meeting of the Neurological Sciences and Disorders A, October 24, 2013, 08:30 a.m. to October 25, 2013, 06:00 p.m., The Renaissance Arlington Capital View, 2800 South Potomac Ave, Arlington, VA, 22202 which was published in the Federal Register on September 25, 2013, 78FRN59041.

The meeting date has been changed to November 19, 2013, to November 20, 2013. The time and meeting location remain the same. The meeting is closed to the public.

Dated: October 22, 2013.
Carolyn Baum,
Program Analyst, Office of Federal Advisory Committee Policy.

[FR Doc. 2013-25227 Filed 10-25-13; 8:45 am]

BILLING CODE 4140-01-P